NATIONAL SCIENCE FOUNDATION

Sunshine Act Meeting; National Science Board

The National Science Board, pursuant to NSF regulations (45 CFR Part 614), the National Science Foundation Act, as amended (42 U.S.C. 1862n-5), and the Government in the Sunshine Act (5 U.S.C. 552b), hereby gives notice of the scheduling of meetings for the transaction of National Science Board business and other matters specified, as follows:

DATE AND TIME: November 21, 2013 from 7:00 a.m. to 4:15 p.m.

PLACE: These meetings will be held at the National Science Foundation, 4201Wilson Blvd., Rooms 1235, Arlington, VA 22230. All visitors must contact the Board Office (call 703-292-7000 or send an email message to nationalsciencebrd@nsf.gov) at least 24 hours prior to the meeting and provide name and organizational affiliation. All visitors must report to the NSF visitor desk located in the lobby at the 9th and N. Stuart Streets entrance to receive a visitor's badge.

Public meetings and public portions of meetings will be webcast. To view the meetings, go to http://www.tvworldwide.com/events/nsf/131121/http://www.tvworldwide.com/events/nsf/130509/ and follow the instructions. Please refer to the National Science Board Web site for additional information. Meeting information and schedule updates (time, place, subject matter or status of meeting) may be found at http://www.nsf.gov/nsb/notices/.

AGENCY CONTACT: Jennie L. Moehlmann, jmoehlma@nsf.gov, (703) 292-7000.

PUBLIC AFFAIRS CONTACT: Dana Topousis, dtopousi@nsf.gov, (703) 292-7750.

STATUS: Portions open; portions closed.

OPEN SESSIONS:

9:00-9:05 a.m. (Chairman's introduction)

9:05-9:45 a.m. (CPP)

3:30-4:15 p.m. (Plenary)

CLOSED SESSIONS:

7:00-745 a.m. (Plenary)

10:00-11:45 a.m. (CPP)

12:45-2:45 p.m. (Plenary executive closed)

2:45 -3:15 p.m. (Plenary closed)

MATTERS TO BE DISCUSSED:

Plenary Board Meeting

Executive Closed Session: 7:00-7:45 a.m. (Reconvening November 15 Meeting)

• Discussion of legislative matters

Committee on Programs and Plans (CPP)

Open Session: 8:05-9:45 a.m.

• Approval of open CPP minutes for August 2013

• Committee Chairman's remarks—including update on schedule of action and information items for NSB review

• Report on Antarctic site visit

• NSB Information Item: Next Generation National Nanotechnology Infrastructure Network (NG NNIN)

Committee on Programs and Plans (CPP)

Closed Session: 10:00-11:45 a.m.

• Committee Chairman's remarks

• Approval of closed CPP minutes for August 2013

• NSB Action Item: Operations and Maintenance of the JOIDES Resolution

• NSB Action Item: Operations of the High Energy Synchrotron Source

Plenary Board Meeting

Executive Closed Session: 12:45-2:45 p.m.

• Approval of Executive closed session minutes, August and September 2013 meetings

• Approval of honorary award recommendations

• Board member proposal

• Candidate site for 2014 Board retreat and meeting

• Discussion of risks to NSF

• Chairman's remarks

Plenary Board Meeting

Closed Session: 2:45-3:15 p.m.

• Approval of closed session minutes, August 2013 meeting

• Awards and Agreements/Resolutions from CPP

○ DIRECTORATE FOR GEOSCIENCES (GEO), Division of Ocean Sciences (OCE): Operation and Maintenance of the JOIDES Resolution for the International Ocean Discovery Program (IODP)

○ DIRECTORATE FOR MATHEMATICAL AND PHYSICAL SCIENCES (MPS), Division of Materials Research (DMR): Operation of the High Energy Synchrotron Source

• Director's report

• Chairman's remarks

Plenary Board Meeting

Open Session: 3:30-4:15 p.m.

• Approval of open session minutes, August and September 2013 meetings

• Chairman's report

• Director's report

• Open committee report

• Chairman's remarks

MEETING ADJOURNS: 4:15 p.m.

Ann Bushmiller,
Senior Counsel to the National Science Board.

[FR Doc. 2013-27684 Filed 11-14-13; 4:15 pm]

BILLING CODE 7555-01-P